DEPARTMENT OF ENERGY

Federal Energy Regulatory Commission

[Docket No. CP06-102-000]

Trunkline LNG Company, LLC; Notice of Intent To Prepare an Environmental Assessment for the Proposed Infrastructure Enhancement Project and Request for Comments on Environmental Issues

May 19, 2006.

The staff of the Federal Energy Regulatory Commission (FERC or Commission) will prepare an environmental assessment (EA) that will discuss the environmental impacts of the Infrastructure Enhancement Project (IEP) involving construction and operation of facilities by Trunkline LNG Company, LLC's (Trunkline LNG) in Lake Charles, Calcasieu Parish, Louisiana.¹ Trunkline LNG would construct and operate Ambient Air Vaporization (AAV) facilities at its existing liquefied natural gas import terminal in Calcasieu Parish, Louisiana. These facilities would consist of system that uses ambient heat in the air to reduce the use of fuel gas in the vaporization of liquefied natural gas (LNG). Additionally, Trunkline LNG would add natural gas liquids (NGL) processing facilities for LNG conditioning and British thermal unit (Btu) control. This EA will be used by the Commission in its decision-making process to determine whether the project is in the public convenience and necessity.

¹ Trunkline LNGs application was filed with the Commission under section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Trunkline LNG provided to landowners. This fact sheet addresses a number of typically asked questions, including the use of eminent domain and how to participate in the Commission's proceedings. It is available for viewing on the FERC Internet Web site (http://www.ferc.gov).

Summary of the Proposed Project

Trunkline LNG's IEP would provide alternative vaporization using a supplemental heat source to reduce the fuel gas requirements for vaporization. Reducing the amount of fuel gas consumed for the vaporization process allows more of the natural gas from the LNG to be delivered to customers. Trunkline LNG seeks authority to construct and operate the following:

• 64 Potassium Formate (KF)-Air heaters (64 forced convection, three-fan air exchangers, 17.9 million Btu per hour (MMBtu/hr)/Air Heater;

• Four KF-LNG Vaporizers (525 million standard cubic feet per day [MMscf/d]);

• One NGL Recovery Unit, sized for a maximum capacity of 1,050 MMscf/d;

• 1,160 feet of 12-inch-diameter ethane product piping;

• 1,160 feet of 12-inch-diameter propane product piping;

• Two propylene glycol heaters (150 MMBtu/hr each);

• Glycol storage and circulation System;

• Two electrical switchgear buildings;

• One remote instrumentation building, designed as Equipment Room 2; and

• Foam Building No. 4.

The nonjurisdictional facilities include the expansion of the existing electric substation, a meter station, and the construction of two 18 mile-long (each) take away NGL product pipelines. British Gas (BG) has contracted PetoLogistics, LLC to design, permit, and operate the meter station and take away pipelines. The pipelines would consist of a 10-inch-diameter ethane (approximately 1,800 gallons per minute [gpm]) pipeline and a 6-inch-diameter propane (approximately 1,250 gpm) pipeline. The pipelines would be constructed from the meter station to PetroLogistics' storage facility in Sulfur, Louisiana.

The location of the project facilities is shown in Appendix 1.²

² The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

Construction of the proposed facilities would require about 33.1 acres of land of which 20 acres are currently covered with grass. Following construction, about 13.6 acres of the 20 acres would be returned to grass and 6.4 acres would be covered with asphalt, concrete or gravel. Included in the 33.1 acres is approximately 0.6 acre of land that would be temporarily affected by the construction of the NGL product pipeline and nonjurisdictional meter station.

In addition, a nonjurisdictional 0.5 acre electric-power substation expansion site developed and operated by Entergy would remain gravel covered with concrete equipment foundations for the new electrical equipment. Further, the 18-mile-long nonjurisdictional take away NGL products pipelines would require about 130.9 acres of land during construction and 87.3 acres as permanent right-of-way based on a 60-foot-wide construction right-of-way and a 40-foot-wide permanent right-of-way.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ³ will discuss impacts that could occur as a result of the construction and operation of the proposed project under these general headings:

³ ”We”, “us”, and “our” refer to the environmental staff of the Office of Energy Projects (OEP).

• Geology and soils.

• Land use.

• Water resources, fisheries, and wetlands.

• Cultural resources.

• Vegetation and wildlife.

• Air quality and noise.

• Endangered and threatened species.

• Hazardous waste.

• Public safety.

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 5.

Currently Identified Environmental Issues

We have already identified several issues that we think deserve attention based on a preliminary review of the proposed facilities and the environmental information provided by Trunkline LNG. This preliminary list of issues may be changed based on your comments and our analysis.

• The project would generate water from condensation and would decrease water temperature and water salinity during discharge which may impact aquatic species.

• The project may have air and noise impacts.

Also, we have made a preliminary decision to not address the impacts of BG's 18-mile-long NGL takeaway pipelines. We will briefly describe their location and status in the EA.

Public Participation

You can make a difference by providing us with your specific comments or concerns about the project. By becoming a commentor, your concerns will be addressed in the EA and considered by the Commission. You should focus on the potential environmental effects of the proposal, alternatives to the proposal (including alternative locations), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A,Washington, DC 20426.

• Label one copy of the comments for the attention of Gas Branch 2.

• Reference Docket No. CP06-102-000.

• Mail your comments so that they will be received in Washington, DC on or before June 19, 2006.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

If you do not want to send comments at this time but still want to remain on our mailing list, please return the Information Request (Appendix 3). If you do not return the Information Request, you will be taken off the mailing list.

Becoming an Intervenor

In addition to involvement in the EA scoping process, you may want to become an official party to the proceeding, or “intervenor”. To become an intervenor you must file a motion to intervene according to Rule 214 of the Commission's Rules of Practice and Procedure (18 CFR 385.214). Intervenors have the right to seek rehearing of the Commission's decision. Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with email addresses may be served electronically; others must be served a hard copy of the filing.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in Appendix 2, to express their interest in becoming cooperating agencies for the preparation of the EA.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202)502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E6-8018 Filed 5-24-06; 8:45 am]

BILLING CODE 6717-01-P